SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before February 2, 2010.

ADDRESSES: Send all comments regarding whether this information collection is necessary for the proper performance of the function of the agency, whether the burden estimates are accurate, and if there are ways to minimize the estimated burden and enhance the quality of the collection, to Radwan Saade, Economist, Office of Advocacy, Small Business Administration, 409 3rd Street, 6th Floor, Washington, DC 20416.

FOR FURTHER INFORMATION CONTACT: Radwan Saade, Economist, 202-205-6878, radwan.saade@sba.gov; Curtis B. Rich, Management Analyst, 202-205-7030, curtis.rich@sba.gov.

SUPPLEMENTARY INFORMATION: The Office of Advocacy is requested under Public Law 110-385, Sec. 105 to study the impact of broadband speed and price on small businesses. Columbia Telecommunications Corporation (CTC) has been tasked with the design, implementation, and analysis of the collection which will be used to guide recommendations for improvements related to small business access to broadband. This assessment will rely on survey data as well as existing industry, government and private resources.

Title: “Impact of Broadband Speed and Prime on Small Business.”

Description of Respondents: Small Businesses using Broadband Internet services.

Form Number: N/A.

Annual Responses: 1,200.

Annual Burden: 250.

Jacqueline White,
Chief, Administrative Information Branch.

[FR Doc. E9-28997 Filed 12-3-09; 8:45 am]

BILLING CODE 8025-01-P